ENVIRONMENTAL PROTECTION AGENCY

[FRL-7460-3]

Meeting of the Local Government Advisory Committee

AGENCY: Environmental Protection Agency (EPA).

ACTION: Notice.

SUMMARY: The Local Government Advisory Committee (LGAC) will meet on March 27-28, 2003, in Atlanta, GA. As part of its mission to advise the Environmental Protection Agency on matters impacting local governments' ability to effectively and efficiently manage environmental programs, the Committee will both meet in plenary sessions and as individual working groups for the purposes of fact finding and the development of recommendations for the Agency.

Topics scheduled to be considered include: the working relationship of local governments and regional offices, current air quality topics, solid waste and water issues in the Atlanta Metropolitan area, environmental management systems, using environmental indicators, and building coordination between local governments, states and EPA. In addition, the Committee will consider its plans for the next year and its organization, structure and charter.

The Committee will hear comments from the public between 2:30 p.m.-2:45 p.m., March 27. Each individual or organization wishing to address the LGAC meeting will be allowed a maximum of five minutes to present their point of view. Please contact the Designated Federal Officer (DFO) at the number listed below to schedule agenda time. Time will be allotted on a first come, first served basis, and the total period for comments may be extended, if the number of requests for appearances required it.

These are open meetings and all interested persons are invited to attend. LGAC meeting minutes and Subcommittee summary notes will be available after the meetings and can be obtained by written request from the DFO. Members of the public are requested to call the DFO at the number listed below if planning to attend so that arrangements can be made to comfortably accommodate attendees as much as possible, and to facilitate security clearance to the meeting. Seating will be on a first come, first served basis.

DATES: The Local Government Advisory Committee plenary session will begin at 8:30 a.m. Thursday, March 27 and conclude at 3 p.m. on March 28.

ADDRESSES: The meetings will be held at the EPA's Region 4 Office located at 61 Forsyth Street, SW., (Sam Nunn Federal Center), Atlanta, GA 30303. Plenary sessions will be held in the Atlanta/Augusta Rooms( 3B90) in the Third floor Bridge Conference center.

Additional information can be obtained by writing the DFO at 1200 Pennsylvania Avenue, NW., (1306A), Washington, DC 20460.

FOR FURTHER INFORMATION CONTACT: The DFO for the Local Government Advisory Committee (LGAC) is Paul Guthrie (202) 564-3649.

Dated: February 25, 2003.
Paul N. Guthrie,
Designated Federal Officer, Local Government Advisory Committee.

[FR Doc. 03-5473 Filed 3-6-03; 8:45 am]

BILLING CODE 6560-50-P